DEPARTMENT OF VETERANS AFFAIRS

[OMB Control No. 2900-0399]

Agency Information Collection Activity Under OMB Review: Student Beneficiary Report—REPS (Restored Entitlement Program for Survivors)

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0399.”

FOR FURTHER INFORMATION CONTACT: VA PRA information: Maribel Aponte, 202-461-8900, vacopaperworkreduact@va.gov.

SUPPLEMENTARY INFORMATION:

Title: Student Beneficiary Report—REPS (Restored Entitlement Program for Survivors).

OMB Control Number: 2900-0399 https://www.reginfo.gov/public/do/PRASearch.

Type of Review: Extension of a previously approved collection.

Abstract: VA Form 21P-8938-1 is primarily used to verify that a surviving child who is receiving REPS benefits based on school-child status is in fact enrolled full-time in an approved school and is otherwise eligible for continued benefits. VA Form 21P-8938-1 is generated by VA's central computer system each March and sent to all student beneficiaries. If the completed form is not received by the end of May, the beneficiary is sent a system-generated due process letter with another VA Form 21P-8938-1. No changes have been made to this form. The respondent burden has remained the same.

An agency may not conduct or sponsor, and a person is not required to respond to a collection of information unless it displays a currently valid OMB control number. The Federal Register Notice with a 60-day comment period soliciting comments on this collection of information was published at 89 FR 40539, May 10, 2024, page 40539.

Affected Public: Individuals or Households.

Estimated Annual Burden: 300 hours.

Estimated Average Burden per Respondent: 20 minutes.

Frequency of Response: One time.

Estimated Number of Respondents: 1,200.

Authority: 44 U.S.C. 3501 et seq.

Maribel Aponte,
VA PRA Clearance Officer, Office of Enterprise and Integration, Data Governance Analytics, Department of Veterans Affairs.

[FR Doc. 2024-15457 Filed 7-12-24; 8:45 am]

BILLING CODE 8320-01-P